DEPARTMENT OF LABOR

Occupational Safety and Health Administration

Susan Harwood Training Grant Program, FY 2013

AGENCY: Occupational Safety and Health Administration (OSHA), Labor.

ACTION: Notice of availability of funds and solicitation for grant applications (SGA) for Targeted Topic Training and Targeted Topic Training and Educational Materials Development grants.

Funding Opportunity No.: SHTG-FY-13-02.

Catalog of Federal Domestic Assistance No.: 17.502.

SUMMARY: This notice announces availability of approximately $1.5 million for Susan Harwood Training Program grants under the following categories: Targeted Topic Training and Targeted Topic Training and Educational Materials Development.

DATES: Grant applications must be received electronically by the Grants.gov system no later than 4:30 p.m., e.t., on Thursday, June 13, 2013, the application deadline date.

ADDRESSES: The complete Susan Harwood Training Grant Program solicitation for grant applications and all information needed to apply for this funding opportunity are available at the Grants.gov Web site, http://www.grants.gov.

FOR FURTHER INFORMATION CONTACT: Questions regarding this solicitation for grant applications should be emailed to HarwoodGrants@dol.gov or directed to Heather Wanderski, Program Analyst, or Jim Barnes, Director, Office of Training Programs and Administration, at 847-759-7700 (note this is not a toll-free number). To obtain further information on the Susan Harwood Training Grant Program, visit the OSHA Web site at: http://www.osha.gov/dte/sharwood/index.html. Please note that on the Susan Harwood Web page, the “Applying for a Grant” section contains a PowerPoint presentation entitled “Helpful Tips for Improving Your Susan Harwood Grant Application.” All applicants are encouraged to review this before drafting a proposal.

Authority and Signature

David Michaels, Ph.D., MPH, Assistant Secretary of Labor for Occupational Safety and Health, directed the preparation of this notice. The authority for this notice is Section 21 of the Occupational Safety and Health Act of 1970, (29 U.S.C. 670), Public Law 111-117, and Public Law 112-10, and Secretary of Labor's Order No. 1-2012 (77 FR 3912).

Signed at Washington, DC, on May 13, 2013.
David Michaels,
Assistant Secretary of Labor for Occupational Safety and Health.

[FR Doc. 2013-11674 Filed 5-15-13; 8:45 am]

BILLING CODE 4510-26-P